SECURITIES AND EXCHANGE COMMISSION

[Release No. 34-44544; File No. SR-ISE-2001-04]

Self Regulatory Organizations; International Securities Exchange LLC; Order Granting Approval to Proposed Rule Change Relating To Its Disciplinary Procedures

July 12, 2001.

On February 6, 2001, the International Securities Exchange LLC (“ISE”) filed with the Securities and Exchange Commission (“Commission”), pursuant to Section 19(b)(1) of the Securities Exchange Act of 1934 (“Act”) ¹ and Rule 19b-4 thereunder,² a proposed rule change to make certain changes to its disciplinary rule and procedures. These changes are intended to reflect and facilitate the “hybrid” regulatory scheme resulting from the ISE's regulatory services agreement with NASD Regulation, Inc. (“NASDR”) pursuant to which, among other things, NASDR provides services related to conducting regulatory investigations and disciplinary actions.

¹ 15 U.S.C. 78s(b)(1).

² 17 CFR 240.19b-4.

The proposed rule change was published for comment in the Federal Register on May 29, 2001.³ The Commission received no comments on the proposal.

³ See Securities Exchange Act Release No. 44327 (May 18, 2001), 66 FR 29188.

The Commission finds that the proposed rule change is consistent with the requirements of the Act and the rules and regulations thereunder applicable to a national securities exchange ⁴ and, in particular, the requirements of Section 6 of the Act ⁵ and the rules and regulations thereunder. The Commission finds specifically that the proposed rule change is consistent with Sections 6(b)(6) and 6(b)(7) of the Act, respectively,⁶ in that the proposed rule change satisfies the requirements that an Exchange's rule: (1) Provide that its members and persons associated with its members shall be appropriately disciplined for violation of the Exchange Act, the rules and regulations thereunder, or the rules of the exchange; and (2) provides a fair procedure for the disciplinary of members and persons associated with members.

⁴ In approving this proposed rule change, the Commission notes that it has considered the proposed rule's impact on efficiency, competition, and capital formation. 15 U.S.C. 78c(f).

⁵ 15 U.S.C. 78f.

⁶ 15 U.S.C. 78f(b)(6)-(7).

It is therefore ordered, pursuant to Section 19(b)(2) of the Act,⁷ that the proposed rule change (File No. SR-ISE-2001-04) be, and it hereby is, approved.

⁷ 15 U.S.C. 78s(b)(2).

For the Commission, by the Division of Market Regulation, pursuant to delegated authority.⁸
⁸ 17 CFR 200.30-3(a)(12).
Margaret H. McFarland,
Deputy Secretary.

[FR Doc. 01-17929 Filed 7-17-01; 8:45 am]

BILLING CODE 8010-01-M